NATIONAL SCIENCE FOUNDATION

Special Emphasis Panel in Mathematical Sciences; Notice of Meetings

In accordance with the federal Advisory Committee Act (Pub. L. 92-463, as amended), the National Science Foundation announces the following meetings of the Special Emphasis Panel in Mathematical Sciences (1204):

Date and Time: February 15-17, 2001; 8:30 a.m.-5:00 p.m.

Contact Person: Henry Warchall, National Science Foundation, 4201 Wilson Boulevard, Room 1025, Arlington, VA 22230. Telephone: (703) 292-4861.

Date and Time: March 1-3, 2001; 8:30 a.m.-5:00 p.m.

Contact Person: Catherine Mavriplis, National Science Foundation, 4201 Wilson Boulevard, Room 1025, Arlington, VA 22230. Telephone: (703) 292-4589.

Date and Time: March 8-10, 2001; 8:30 a.m.-5:00 p.m.

Contact Person: Drs. Deborah Lockhart, Thomas Fogwell, and David Kopriva, National Science Foundation, 4201 Wilson Boulevard, Arlington, VA 22230. Telephone: (703) 292-4858.

Place: National Science Foundation, 4201 Wilson Boulevard, Arlington, VA.

Type of Meetings: Closed.

Purpose of Meetings: To provide advice and recommendations concerning proposals submitted to NSF for financial support.

Agenda: To review and evaluate proposals as part of the selection process for awards.

Reason for Closing: The proposals being reviewed include information of a proprietary or confidential nature, including technical information; financial data, such as salaries and personal information concerning individuals associated with the proposals. These matters are exempt under 5 U.S.C. 552b(c), (4) and (6) of the Government in the Sunshine Act.

Dated: January 25, 2001.
Karen J. York,
Committee Management Officer.

[FR Doc. 01-2618 Filed 1-30-01; 8:45 am]

BILLING CODE 7555-01-M